DEPARTMENT OF HEALTH AND HUMAN SERVICES

Centers for Disease Control and Prevention

[30Day-07-0222]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Questionnaire Design Research Laboratory (QDRL) 2007-2009, (OMB No. 0920-0222)—Extension—National Center for Health Statistics (NCHS), Centers for Disease Control and Prevention (CDC).

Background and Brief Description

The Questionnaire Design Research Laboratory (QDRL) conducts questionnaire pre-testing and evaluation activities for CDC surveys (such as the NCHS National Health Interview Survey, OMB No. 0920-0214) and other federally sponsored surveys. The QDRL conducts cognitive interviews, focus groups, mini field-pretests, and experimental research in laboratory and field settings, both for applied questionnaire evaluation and more basic research on response errors in surveys.

In a cognitive interview, a questionnaire design specialist interviews a volunteer participant. QDRL participants are usually recruited by expressing their personal willingness to participate. They read or hear about the study through media advertisements, flyers, and word-of-mouth, and either call the laboratory answering machine number or contact a person coordinating the recruitment. Thus, participation is strictly voluntary and participants are not chosen randomly.

The most common questionnaire evaluation method is the cognitive interview. The interviewer administers the draft survey questions as written, but also probes the participant in depth about interpretations of questions, recall processes used to answer them, and adequacy of response categories to express answers, while noting points of confusion and errors in responding. Interviews are generally conducted in small rounds of 10-15 interviews; ideally, the questionnaire is re-worked between rounds and revisions are tested interactively until interviews yield relatively few new insights. When possible, cognitive interviews are conducted in the survey's intended mode of administration. For example, when testing telephone survey questionnaires, participants often respond to the questions via a telephone in a laboratory room. Under this condition, the participant answers without face-to-face interaction. QDRL staff watch for response difficulties from an observation room, and then conduct a face-to-face debriefing with in-depth probes. Cognitive interviewing provides useful data on questionnaire performance at minimal cost and respondent burden. Similar methodology has been adopted by other Federal agencies, as well as by academic and commercial survey organizations. NCHS is requesting 3 years of OMB Clearance for the project. There are no costs to respondents other than their time. The total estimated annualized burden hours are 600.

Estimated Annualized Burden Hours
Projects | Number of participants | Number of responses/participant | Average hours per response
QDRL Interviews:
(1) NCHS Surveys | 120 | 1 | 1.25
(2) Other questionnaire testing | 120 | 1 | 1.25
(3) Research on the effects of alternative questionnaire design | 500 | 1 | 18/60
(4) General Methodological Research | 60 | 1 | 1.25
Focus Groups (5 groups of 10) | 50 | 1 | 1.5

Dated: November 9, 2006.
Joan F. Karr,
Acting Reports Clearance Officer, Centers for Disease Control and Prevention.

[FR Doc. E6-19373 Filed 11-15-06; 8:45 am]

BILLING CODE 4163-18-P